CONSUMER PRODUCT SAFETY COMMISSION

[Docket No. CPSC-2012-0026]

Agency Information Collection Activities; Extension of Collection; Comment Request; Requirements Pertaining to Third Party Conformity Assessment Bodies

AGENCY: Consumer Product Safety Commission.

ACTION: Notice of information collection; request for comment.

SUMMARY: As required by the Paperwork Reduction Act of 1995, the Consumer Product Safety Commission (CPSC or Commission) requests comments on a proposed extension of approval of information collection requirements pertaining to third party conformity assessment bodies. The Office of Management and Budget (OMB) previously approved the collection of information under control number 3041-0156. OMB's most recent extension of approval will expire on September 30, 2025. The Commission will consider all comments received in response to this notice before requesting an extension of this collection of information from OMB.

DATES: Submit comments on the collection of information by August 11, 2025.

ADDRESSES: You may submit comments, identified by Docket No. CPSC-2012-0026, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC- 2012-0026 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Requirements Pertaining to Third Party Conformity Assessment Bodies.

OMB Number: 3041-0156.

Type of Review: Renewal of collection.

Frequency of Response: On occasion.

Affected Public: Third party conformity assessment bodies seeking acceptance of accreditation or continuing accreditation.

General Description of Collection: On March 12, 2013, the Commission issued a rule Pertaining to Third Party Conformity Assessment Bodies (78 FR 15836). The rule established the general requirements concerning third party conformity assessment bodies, such as the requirements and procedures for CPSC acceptance of the accreditation of a third party conformity assessment body, and the rule prescribed adverse actions that might be imposed against CPSC-accepted third party conformity assessment bodies. The rule also amended the audit requirements for third party conformity assessment bodies and amended the CPSC's regulation for inspections. CPSC's requirements pertaining to third party conformity assessment bodies can be found at 16 CFR part 1112.

Estimated Respondent Burden:

• Application Burden.

The application for CPSC acceptance of accreditation is completed by submitting a Consumer Product Conformity Assessment Body Registration Form (CPSC Form 223); an accreditation certificate for ISO/IEC 17025, General requirements for the competence of testing and calibration laboratories; and a statement of scope that clearly identifies each CPSC rule and/or test method for which CPSC acceptance is sought. 16 CFR 1112.13(a). For independent third party conformity assessment bodies, the estimated time to complete the initial application materials is 75 minutes. For governmental and firewalled third party conformity assessment bodies, the estimate is longer because of their additional requirements. See 16 CFR 1112.13(b)-(c). Firewalled third party conformity assessment bodies will require an estimated 8.4 hours to develop and upload their requirements to the CPSC. Governmental third party conformity assessment bodies will require three hours to develop and upload their requirements to the CPSC.

Based on applications received from FY 2020 to FY 2024, we estimate receiving 40 new applications from independent third party conformity assessment bodies, three applications from firewalled third party conformity assessment bodies, and four applications from governmental third party conformity assessment bodies, each year.

Therefore, we estimate the total hourly burden for new applications to be 87.2 hours (75 minutes per independent application × 40 applications = 3,000 minutes or 50 hours) + (8.4 hours per firewalled application × 3 applications = 25.2 hours) + (3 hours per governmental application × 4 applications = 12 hours).

• Updating Information Burden.

To update the information on CPSC Form 223, third party conformity assessment bodies will not need to fill out an entirely new form to submit new information. They can access their existing CPSC Form 223 via the third party conformity assessment body application program on the CPSC's website and change only those elements that need updating. From FY 2020 through the first half of 2025, there has been a large increase in additions to scope applications submitted each year. The additions to scope applications accommodate new testing related to toys, furniture, batteries and durable nursery products. We estimate it will take a third party conformity assessment body 30 minutes to update its information to add scope items. Further, we estimate that about 20 percent of the approximately 670 third party conformity assessment bodies will do this per year, for an estimated 134 addition to scope applications annually. Therefore, we estimate the total hourly burden to update information to be 67 hours (134 applications per year × 30 minutes per application = 4,020 minutes or 67 hours per year).

• Third Party Disclosure Burden.

During their normal course of business, third party conformity assessment bodies maintain testing records. In addition, CPSC requires that when a test conducted for purposes of section 14 of the CPSA is subcontracted, a prime contractor's report must clearly identify which test(s) were performed by a CPSC-accepted third party conformity assessment body acting as a subcontractor, and the test from the subcontractor must be appended to the prime contractor's report. Records maintained by a conformity assessment body during their normal course of business would not be considered in calculating Paperwork Reduction Act (PRA) burden, but we estimate that an average third party conformity assessment body engages in recordkeeping related to 12,000 tests annually pursuant to section 14 of the CPSA that may be considered PRA burden. We estimate that five percent of third party conformity assessment bodies, or 33.5 bodies (670 conformity assessment bodies × 5% = 33.5 subcontracting test bodies), will subcontract tests to other CPSC-accepted third party conformity assessment bodies. It is difficult to estimate how many tests will be subcontracted, but for current purposes, we estimate that of the third party conformity assessment bodies who subcontract, they will subcontract 25 percent of their tests. We estimate that it will take seven minutes, on average, to comply with the recordkeeping requirements related to subcontracted tests. If five percent of third party conformity assessment bodies subcontract 25 percent of tests annually, that is a total of 100,500 subcontract tests per year (33.5 subcontracting test bodies × 12,000 tests per body × 25% tests subcontracted = 100,500 subcontract tests). Therefore, at seven minutes per test, we estimate a total burden for third party disclosure to be 11,725 hours (or 703,500 minutes) per year to comply with the subcontracting recordkeeping requirement.

• Discontinue Burden.

If a third party conformity assessment body wishes to voluntarily discontinue its participation with the CPSC, an estimated 30 minutes is needed to create and submit the required documentation. See 16 CFR 1112.29. From FY 2020-24, 106 labs withdrew from the CPSC program. Accordingly, we estimate 20 labs will withdraw at an estimated total hourly burden of 10 hours (or 600 minutes) annually.

• Audit Burden.

The CPSC portion of an audit is required no less than once every two years. See 16 CFR 1112.35(b). Therefore, we estimated that 50 percent of third party conformity assessment bodies each year will go through an audit. This is based on FY20-24 data showing an average of 354 CPSC Audits per year. Based on the number of third party conformity assessment bodies that have already been accepted by the CPSC as of the end of May 2025 (686) and based upon our experience with the rate of new successful applications, we predict that the total number of third party conformity assessment bodies will be 700 by FY26. Half of those, 350, will be audited annually. Depending on the type of conformity assessment body (i.e., independent, firewalled, or governmental), and other factors not controlled by CPSC, audit burden would vary somewhat from body to body. We estimate that laboratories will spend approximately 15 minutes to resubmit their updated materials, including the CPSC Form 223, accredited scope listing and accreditation certificate for the CPSC Audits. Firewalled and governmental labs are also expected to submit an updated attestation, as well as an employee undue influence memorandum. In addition, for firewalled labs, a revised risk assessment of impartiality and undue influence is also included. Therefore, the total amount of time spent by conformity assessment bodies will be approximately 87.5 hours (350 bodies audited × 15 min. per audit = 5,250 minutes, or 87.5 hours).

Total Estimated Annual Burden: Adding all the annual estimated burden hours results in a total of approximately 11,977 hours (87.2 hours application burden + 67 hours updating burden + 11,725 hours disclosure burden + 10 hours discontinue burden + 87.5 hours audit burden = 11,976.7 total annual burden hours).

To calculate the total cost of this PRA burden, we use the total compensation for all civilian workers, available from the U.S. Bureau of Labor Statistics “Employer Costs for Employee Compensation,” which is $47.20 per hour worked as of December 2024. At $47.20 per hour, the total cost of the PRA burden is approximately $565,314 ($47.20 × 11,977 hours = $565,314.40).

Request for Comments:

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-10508 Filed 6-9-25; 8:45 am]

BILLING CODE 6355-01-P